DEPARTMENT OF TRANSPORTATION

Federal Aviation Administration

Notice of Intent To Rule on Request To Release Airport Property at the St. George Airport, St. George, UT

AGENCY: Federal Aviation Administration (FAA), DOT.

ACTION: Notice of request to release airport property.

SUMMARY: The FAA proposes to rule and invite public comment on the release of land at St. George Airport under the provisions of Section 125 of the Wendell H. Ford Aviation Investment Reform Act for the 21st Century (AIR 21), now 49 U.S.C. 47107(h)(2).

DATES: Comments must be received on or before October 25, 2012.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. Gary Esplin, City Manager, City of St. George, Utah, at the following address: Mr. Gary Esplin, City Manager, City of St. George, 175 East 200 North, St. George, Utah 84770.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the St. George Airport under the provisions of the AIR 21 (49 U.S.C. 47107(h)(2)).

The FAA Modernization and Reform Act of 2012, HR 658, Section 817, gave the Secretary of Transportation the authorization to grant an airport, city, or county release from any of the terms, conditions, reservations, or restrictions contained in a deed under which the United States conveyed to the airport, city, or county an interest in real property for airport purposes pursuant to Section 16 of the Federal Airport Act (60 Stat. 179) or Section 23 of the Airport and Airway Development Act of 1970 (84 Stat. 232).

On September 14, 2012, the FAA determined that the request to release property at the St. George Airport submitted by the City of St. George meets the procedural requirements of the Federal Aviation Administration. The FAA may approve the request, in whole or in part, no later than October 25, 2012.

The following is a brief overview of the request:

The City of St. George is proposing the release from the terms, conditions, reservations, and restrictions on a 40 acre parcel of property by an instrument of disposal dated June 28, 1951. The property was conveyed to St. George under Section 16 of the Surplus Property Act of 1944 to be used in developing, improving, operating, or maintaining and operating a public airport. Physical constraints of the airport site required the construction and opening of the Replacement Airport in 2011 approximately 15 miles to the east. The former St. George Airport was decommissioned on January 15, 2011. The former airport is no longer needed for aviation purposes and the release is to allow for the sale of the property so the proceeds from the sale can be used towards payment of the City's share of the costs associated with the Replacement Airport. A portion of the property will be sold to the State of Utah for construction of an institution of higher education. The remainder of the property, will be sold as the market improves, with the proceeds being used to reimburse St. George for costs associated with the Replacement Airport.

Any person may inspect, by appointment, the request in person at the FAA office listed above under FOR FURTHER INFORMATION CONTACT.

In addition, any person may, upon appointment and request, inspect the application, notice and other documents germane to the application in person at the St George Airport.

Issued in Denver, Colorado, on September 14, 2012.
John P. Bauer,
Manager, Denver Airports District Office.

[FR Doc. 2012-23556 Filed 9-24-12; 8:45 am]

BILLING CODE P